DEPARTMENT OF DEFENSE

Department of the Navy

Notice of Availability of Government-Owned Inventions; Available for Licensing

AGENCY: Department of the Navy, DoD.

ACTION: Notice.

SUMMARY: The inventions listed below are assigned to the United States Government as represented by the Secretary of the Navy and are made available for licensing by the Department of the Navy. U.S. Patent Number 6,904,861, entitled “Boat Capture System”, issue date June 14, 2005.//U.S. Patent Pending, entitled “Role Based Access Control”, Navy Case Number 96217.//U.S. Patent Pending, entitled System of Access Control Based on Hierarchical Characteristics”, Navy Case Number 97189.//U.S. Patent Pending, entitled “Software Architecture for Access Control Based Hierarchical Characteristics”, Navy Case Number 97188.

ADDRESSES: Requests for copies of patents cited should be directed to the Space and Naval Warfare Systems Center, Office of Research and Technology Applications, Code 2112, 83570 Silvergate Ave., Room 2306, San Diego, CA 92152-5048.

FOR FURTHER INFORMATION CONTACT: Dr. Stephen H. Lieberman, Office of Research and Technology Applications, Space and Naval Warfare Systems Center, Code 2112, 83570 Silvergate Ave., Room 2306, San Diego, CA 92152-5048, telephone 619-553-2778, e-mail: stephen.lieberman@navy.mil.

(Authority: 35 U.S.C. 207, 37 CFR part 404)

Dated: March 28, 2006.
Eric McDonald,
Lieutenant Commander, Judge Advocate General's Corps, U.S. Navy, Federal Register Liaison Officer.

[FR Doc. E6-4994 Filed 4-5-06; 8:45 am]

BILLING CODE 3810-FF-P